DEPARTMENT OF ENERGY

Federal Energy Regulatory Commission

Combined Notice of Filings #1

Take notice that the Commission received the following electric rate filings:

Docket Numbers: ER10-3140-024.

Applicants: Inland Empire Energy Center, LLC.

Description: Clarification to September 9, 2016 Supplement to June 28, 2016 Triennial Market Power Analysis of Inland Empire Energy Center, LLC.

Filed Date: 10/11/16.

Accession Number: 20161011-5345.

Comments Due: 5 p.m. ET 11/1/16.

Docket Numbers: ER16-2222-002.

Applicants: Alcoa Power Generating Inc.

Description: Tariff Amendment: Amendment to Initial Long Sault Division Open Access Transmission Tariff to be effective 10/1/2016.

Filed Date: 10/11/16.

Accession Number: 20161011-5273.

Comments Due: 5 p.m. ET 10/24/16.

Docket Numbers: ER16-2223-002.

Applicants: Alcoa Power Generating Inc.

Description: Tariff Amendment: Amendment to Initial Tapoco Division Open Access Transmission Tariff to be effective 10/1/2016.

Filed Date: 10/11/16.

Accession Number: 20161011-5277.

Comments Due: 5 p.m. ET 10/24/16.

Docket Numbers: ER16-2639-000.

Applicants: PJM Interconnection, L.L.C.

Description: Report Filing: Supplement to Filing in Docket No. ER16-2639 to be effective N/A.

Filed Date: 9/27/16.

Accession Number: 20160927-5129.

Comments Due: 5 p.m. ET 10/18/16.

Docket Numbers: ER17-56-000.

Applicants: Macquarie Energy LLC.

Description: § 205(d) Rate Filing: Revised MBR Tariff to be effective 10/12/2016.

Filed Date: 10/11/16.

Accession Number: 20161011-5253.

Comments Due: 5 p.m. ET 11/1/16.

Docket Numbers: ER17-57-000.

Applicants: PJM Interconnection, L.L.C.

Description: § 205(d) Rate Filing: Errata to ER16-1737 to Clarify Rev to Definitions Sections in OATT, OA and RAA to be effective 12/12/2016.

Filed Date: 10/11/16.

Accession Number: 20161011-5254.

Comments Due: 5 p.m. ET 11/1/16.

Docket Numbers: ER17-58-000.

Applicants: NorthWestern Corporation.

Description: Compliance filing: Order Nos. 827 and 828 Combined Compliance Filing (South Dakota OATT) to be effective 10/14/2016.

Filed Date: 10/11/16.

Accession Number: 20161011-5297.

Comments Due: 5 p.m. ET 11/1/16.

Docket Numbers: ER17-59-000.

Applicants: Southern California Edison Company.

Description: § 205(d) Rate Filing: Updates to Service Agreement Nos. 622 and 623 for the Portal Ridge Solar Project to be effective 10/13/2016.

Filed Date: 10/12/16.

Accession Number: 20161012-5048.

Comments Due: 5 p.m. ET 11/2/16.

Docket Numbers: ER17-60-000.

Applicants: Southwest Power Pool, Inc.

Description: § 205(d) Rate Filing: SPP-MISO JOA Ministerial Filing to Correct Attachment 1 Section 7 Appendix C to be effective 7/25/2016.

Filed Date: 10/12/16.

Accession Number: 20161012-5054.

Comments Due: 5 p.m. ET 11/2/16.

Docket Numbers: ER17-61-000.

Applicants: New York Independent System Operator, Inc.

Description: Compliance filing: Compliance filing—Order Nos. 827 828—pro forma LGIA, SGIA to be effective 10/13/2016.

Filed Date: 10/12/16.

Accession Number: 20161012-5072.

Comments Due: 5 p.m. ET 11/2/16.

Docket Numbers: ER17-62-000.

Applicants: Otter Tail Power Company.

Description: § 205(d) Rate Filing: Filing of Certificate of Concurrence to be effective 1/1/2016.

Filed Date: 10/12/16.

Accession Number: 20161012-5073.

Comments Due: 5 p.m. ET 11/2/16.

Docket Numbers: ER17-63-000.

Applicants: ORNI 47 LLC.

Description: § 205(d) Rate Filing: ORNI 47 Shared Facilities Agreement to be effective 12/12/2016.

Filed Date: 10/12/16.

Accession Number: 20161012-5078.

Comments Due: 5 p.m. ET 11/2/16.

Docket Numbers: ER17-64-000.

Applicants: ORNI 47 LLC.

Description: § 205(d) Rate Filing: ORNI 47 Co-Tenancy Agreement to be effective 12/12/2016.

Filed Date: 10/12/16.

Accession Number: 20161012-5079.

Comments Due: 5 p.m. ET 11/2/16.

Docket Numbers: ER17-65-000.

Applicants: ORNI 37 LLC.

Description: § 205(d) Rate Filing: ORNI 37 Shared Facilities Agreement to be effective 12/12/2016.

Filed Date: 10/12/16.

Accession Number: 20161012-5080.

Comments Due: 5 p.m. ET 11/2/16.

Docket Numbers: ER17-66-000.

Applicants: ORNI 37 LLC.

Description: § 205(d) Rate Filing: ORNI 37 Co-Tenancy Agreement to be effective 12/12/2016.

Filed Date: 10/12/16.

Accession Number: 20161012-5083.

Comments Due: 5 p.m. ET 11/2/16.

Docket Numbers: ER17-67-000.

Applicants: Midcontinent Independent System Operator, Inc.

Description: § 205(d) Rate Filing: 2016-10-12_Reorganization of Module C Section 40.3.3 to be effective 11/12/2016.

Filed Date: 10/12/16.

Accession Number: 20161012-5087.

Comments Due: 5 p.m. ET 11/2/16.

Docket Numbers: ER17-68-000.

Applicants: ISO New England Inc., New England Power Pool Participants Committee.

Description: § 205(d) Rate Filing: Market Rule 1 Revisions to Increase Resource Dispatchability to be effective 12/12/2016.

Filed Date: 10/12/16.

Accession Number: 20161012-5088.

Comments Due: 5 p.m. ET 11/2/16.

Docket Numbers: ER17-68-001.

Applicants: ISO New England Inc., New England Power Pool Participants Committee.

Description: Tariff Amendment: Market Rule 1 Revisions to Increase Resource Dispatchability—Part 2 to be effective 6/1/2020.

Filed Date: 10/12/16.

Accession Number: 20161012-5141.

Comments Due: 5 p.m. ET 11/2/16.

Docket Numbers: ER17-69-000.

Applicants: PJM Interconnection, L.L.C.

Description: § 205(d) Rate Filing: Original WMPA SA No. 4563, Queue Position AA2-048 to be effective 9/22/2016.

Filed Date: 10/12/16.

Accession Number: 20161012-5089.

Comments Due: 5 p.m. ET 11/2/16.

Docket Numbers: ER17-70-000.

Applicants: KCP&L Greater Missouri Operations Company.

Description: Tariff Cancellation: cancellation filing to be effective 10/13/2016.

Filed Date: 10/12/16.

Accession Number: 20161012-5090.

Comments Due: 5 p.m. ET 11/2/16.

Docket Numbers: ER17-72-000.

Applicants: Kansas City Power & Light Company.

Description: Tariff Cancellation: cancellation filing to be effective 12/11/2016.

Filed Date: 10/12/16.

Accession Number: 20161012-5102.

Comments Due: 5 p.m. ET 11/2/16.

Docket Numbers: ER17-73-000.

Applicants: Western Interconnect LLC.

Description: § 205(d) Rate Filing: Revision Filing to be effective 12/1/2016.

Filed Date: 10/12/16.

Accession Number: 20161012-5113.

Comments Due: 5 p.m. ET 11/2/16.

Docket Numbers: ER17-74-000.

Applicants: Western Interconnect LLC.

Description: Initial rate filing: Initial OATT to be effective 12/1/2016.

Filed Date: 10/12/16.

Accession Number: 20161012-5143.

Comments Due: 5 p.m. ET 11/2/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 12, 2016.
Nathaniel J. Davis, Sr.,
Deputy Secretary.

[FR Doc. 2016-25157 Filed 10-17-16; 8:45 am]

BILLING CODE 6717-01-P